DEPARTMENT OF COMMERCE

Bureau of the Census

Census Scientific Advisory Committee

AGENCY: Bureau of the Census, Department of Commerce.

ACTION: Notice of public virtual meeting.

SUMMARY: The Bureau of the Census (Census Bureau) is giving notice of a virtual meeting of the Census Scientific Advisory Committee (CSAC). The Committee will address the results of the 2015 National Content Test on race and ethnicity. The CSAC will meet virtually on Thursday, October 6, 2016. Last minute changes to the schedule are possible, which could prevent giving advance public notice of schedule adjustments. Please visit the Census Advisory Committees Web site for the most current meeting agenda at: http://www.census.gov/about/cac.html.

DATES: October 6, 2016. The virtual meeting will begin at approximately 2:00 p.m. ET and end at approximately 4:00 p.m. ET.

ADDRESSES: The meeting will be held via WebEx at the following URL link: https://census.webex.com/census/j.php?MTID=m8a838a44aa1d499cce581f7bf1432058. For audio please call the following phone number: 888-790-3565. When prompted, please use the following password: 8267816.

FOR FURTHER INFORMATION CONTACT: Tara Dunlop Jackson, Advisory Committee Branch Chief, Customer Liaison and Marketing Services Office, tara.t.dunlop@census.gov, Department of Commerce, U.S. Census Bureau, Room 8H177, 4600 Silver Hill Road, Washington, DC 20233, telephone 301-763-5222. For TTY callers, please use the Federal Relay Service 1-800-877-8339.

SUPPLEMENTARY INFORMATION: Members of the CSAC are appointed by the Director, U.S. Census Bureau. The Committee provides scientific and technical expertise, as appropriate, to address Census Bureau program needs and objectives. The Committee was established in accordance with the Federal Advisory Committee Act (Title 5, United States Code, Appendix 2, Section 10).

All meetings are open to the public. A brief period will be set aside at the meeting for public comment on October 6. Individuals with extensive questions or statements must submit them in writing to: census.scientific.advisory.committee@census.gov (subject line “October 6, 2016 CSAC Virtual Meeting Public Comment”), or by letter submission to the Committee Liaison Officer, Department of Commerce, U.S. Census Bureau, Room 8H179, 4600 Silver Hill Road, Washington, DC 20233.

Dated: September 13, 2016.
John H. Thompson,
Director, Bureau of the Census.

[FR Doc. 2016-22785 Filed 9-21-16; 8:45 am]

BILLING CODE 3510-07-P